DEPARTMENT OF THE INTERIOR

National Park Service

Notice of Inventory Completion: U.S. Department of Agriculture, Forest Service, Coconino National Forest, Flagstaff, AZ and Arizona State University, School of Evolution and Social Change, Phoenix, AZ

AGENCY: National Park Service, Interior.

ACTION: Notice.

Notice is here given in accordance with of the Native American Graves Protection and Repatriation Act (NAGPRA), 25 U.S.C. 3003, of the completion of an inventory of human remains and associated funerary objects in the control of the U.S. Department of Agriculture, Forest Service, Coconino National Forest, Flagstaff, AZ, and in the possession of the Arizona State University, School of Evolution and Social Change (formerly Department of Anthropology), Tempe, AZ. The human remains and associated funerary objects were removed from Yavapai County, AZ.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by Coconino National Forest and Arizona State University, School of Human Evolution and Social Change professional staffs in consultation with representatives of the Hopi Tribe of Arizona.

At an unknown date, human remains representing a minimum of one individual were removed from site AZ O:05:0129, Yavapai County, AZ, by unknown individuals. In 1958, the human remains were donated to the Arizona State University by Edward Dick. No known individual was identified. The eight associated funerary objects are one necklace, three bead anklets, three pieces of cloth, and one reed.

Site AZ O:05:0129 is a cave site, in the Verde River Valley and located near Camp Verde, AZ. Characteristics of material culture indicate that the site is associated with the archeologically-defined Sinagua culture (central Arizona), dating to A.D. 650-1400. The Sinagua culture is considered to be ancestral to the Hopi Tribe of Arizona. Oral traditions presented by representatives of the Hopi Tribe support cultural affiliation.

Officials of the Coconino National Forest in consultation with officials of Arizona State University have determined that, pursuant to 25 U.S.C. 3001 (9-10), the human remains described above represent the physical remains of one individual of Native American ancestry. Officials of the Coconino National Forest in consultation with officials of Arizona State University also have determined that, pursuant to 25 U.S.C. 3001 (3)(A), the eight objects described above are reasonably believed to have been placed with or near individual human remains at the time of death or later as part of the death rite or ceremony. Lastly, officials of the Coconino National Forest also have determined that, pursuant to 25 U.S.C. 3001 (2), there is a relationship of shared group identity that can be reasonably traced between the Native American human remains and associated funerary objects and the Hopi Tribe of Arizona.

Representatives of any other Indian tribe that believes itself to be culturally affiliated with the human remains and associated funerary objects should contact Dr. Frank E. Wozniak, NAGPRA Coordinator, Southwestern Region, USDA Forest Service, 333 Broadway Blvd. SE, Albuquerque, NM 87102, telephone (505) 842-3238, before September 12, 2008. Repatriation of the human remains and associated funerary objects to the Hopi Tribe of Arizona may proceed after that date if no additional claimants come forward.

The Coconino National Forest is responsible for notifying the Hopi Tribe of Arizona that this notice has been published.

Dated: June 8, 2008
Sherry Hutt,
Manager, National NAGPRA Program.

[FR Doc. E8-18693 Filed 8-12-08; 8:45 am]

BILLING CODE 4312-50-S